DEPARTMENT OF LABOR

Office of the Secretary

[Secretary's Order 2-2004]

The Department of Labor's Records Management Program

1. Purpose

To delegate authority, assign responsibility, and affirm policy for an internal records management program that ensures that officials and employees make, preserve and efficiently manage records containing adequate and proper documentation of the organization, functions, policies, decisions, procedures, and essential transactions of the Department, in order to furnish the information necessary to protect the legal and financial rights of the Government and of persons directly affected by the Department's activities. The Records Management Program is intended to assure compliance with legal requirements to create and maintain accurate and complete records of the Department's functions and activities and to ensure the authorized, timely, and appropriate disposition of documentary materials that are no longer needed to conduct business.

2. Authorities and Directives Affected

a. Authorities. This Order is issued pursuant to the Federal Records Act of 1950, as amended (44 U.S.C. 21, 29, 31, 33 and 35); 29 U.S.C. 551, et seq.; 5 U.S.C. 301; Reorganization Plan Number 6 (1950); the National Archives and Records Administration (NARA), Records Management Regulations, 36 CFR parts 1220, 1228, 1230, 1232 and 1234; General Services Administration (Creation, Maintenance and Use of Records), 41 CFR part 102-193; and the Guidance Memorandum, dated March 19, 2002, issued jointly by the National Archives and Records Administration and the Department of Justice on “Safeguarding Information Regarding Weapons of Mass Destruction and Other Sensitive Records Related to Homeland Security.”

b. Directives Affected. This Order does not affect the authorities and responsibilities assigned by any other Secretary's Order, unless otherwise expressly so provided in this or another Order.

3. Background

The Federal Records Act of 1950 (section 506 (b)) requires that the Head of each Federal agency establish and maintain an active Records Management Program. Records Management is an active continuing program for controlling the creation, maintenance, use and disposition of records within an organization to document and transact its business. The program functions and responsibilities have been performed under the direction of the Office of the Assistant Secretary for Administration and Management for many years in the absence of a formal Secretary's Order. Accordingly, this Order formally delegates authority and assigns responsibility for oversight and implementation of the Records Management functions of the Department.

4. Scope

This Order is applicable Department-wide.

5. Policy

It is the Department's policy to make and preserve records containing adequate and proper documentation of the organization, functions, policies, decisions, procedures, and essential transactions of the Department and designed to furnish the information necessary to protect the legal and financial rights of the Department and of persons directly affected by Departmental activities. The Department will effectively and efficiently manage records throughout their life cycle. The Department will comply with all related Federal statutes and regulations. All scheduled records shall be destroyed, retired, or transferred, only as prescribed in approved record retention schedules.

Among other things, good recordkeeping contributes to the smooth operation of agency programs by making the information needed for decisionmaking and operations readily available. It further provides information useful to successor officials and staff for background and analysis, facilitating transitions between Administrations. It ensures accountability and protects records from inappropriate and unauthorized access and destruction.

6. Responsibility

a. The Assistant Secretary for Administration and Management is delegated authority and assigned responsibility for:

(1) Establishing, administering, and managing the Department's Records Management Program;

(2) Periodically evaluating the Records Management Programs relating to records creation and recordkeeping requirements, maintenance and use of records, and records disposition. These evaluations shall include periodic monitoring of the staff determinations of the record status of documentary materials in all media, and implementation of these decisions, in compliance with National Archives and Records Administration regulations; and

(3) Assigning a Departmental Records Officer who will manage the day-to-day administration and management of all matters related to the Department's Records Management Program. The Departmental Records Officer shall be responsible for all matters related to the Department's Records Management Program and will coordinate with the National Archives and Records Administration.

b. The Solicitor of Labor is delegated authority and assigned responsibility for providing legal advice and counsel to the DOL agencies and offices on all matters arising in the administration of this Order.

c. Agency Heads are delegated authority and assigned responsibility for:

(1) Developing and implementing an effective Records Management Program within their respective organizations that is consistent with this Order and all applicable established requirements;

(2) Establishing appropriate schedules for disposition of official records within their Agency;

(3) Assigning an Agency Records Officer to coordinate with appropriate Agency officials, the management and execution of the Agency's Records Management Program. The Agency Records Officers will coordinate with the Departmental Records Officer on the submission of records disposition schedules related to the Agency's official records;

(4) Notifying the Departmental Records Officer of the name, title, office location and telephone number of the Agency Records Officer or point of contact;

(5) Ensuring that Agency staff receive adequate records management training and participate in Departmental as well as agency training and awareness activities;

(6) Identifying and appointing personnel within the Agency who will perform all applicable functions and responsibilities related to records management; and

(7) Ensuring that all employees and officials cooperate with the Agency Records Officer.

7. Reservation of Authority and Responsibility

a. The submission of reports and recommendations to the President and the Congress concerning the administration of statutory or administrative provisions is reserved to the Secretary.

b. This Secretary's Order does not affect the authorities or responsibilities of the Office of Inspector General under the Inspector General Act of 1978, as amended, or under Secretary's Order 2-90 (January 31, 1990).

8. Effective date

This Order is effective immediately.

Dated: August 5, 2004.
Elaine L. Chao,
Secretary of Labor.

[FR Doc. 04-18441 Filed 8-11-04; 8:45 am]

BILLING CODE 4510-23-P